DEPARTMENT OF COMMERCE

International Trade Administration

[A-489-501]

Certain Welded Carbon Steel Pipe and Tube from Turkey: Notice of Initiation of Antidumping Duty New Shipper Review for the Period May 1, 2004, through April 30, 2005.

AGENCY: Import Administration, International Trade Administration, Department of Commerce.

EFFECTIVE DATE: July 8, 2005.).

SUMMARY: The Department of Commerce (“the Department”) has received a request to conduct a new shipper review of the antidumping duty (“AD”) order on certain welded carbon steel pipe and tube from Turkey. In accordance with section 751(a)(2)(B) of the Tariff Act of 1930, as amended (“the Act”), and 19 CFR 351.214, we are initiating an AD new shipper review for Tosçelik Profil ve Sac Endustrisi A.S. (“Tosçelik”), and its affiliated export trading company, Tosyali Dis Ticaret A.S. (“Tosyali”).

FOR FURTHER INFORMATION CONTACT: Christopher Hargett, Lyman Armstrong, or Victoria Cho, at (202) 482-4161, (202) 482-3601, or (202) 482-5075, respectively; AD/CVD Operations, Office 3, Import Administration, International Trade Administration, U.S. Department of Commerce, 14th Street and Constitution Avenue, NW., Washington, DC 20230.

SUPPLEMENTARY INFORMATION:

Background

On May 31, 2005, the Department received a timely request from Tosçelik, in accordance with 19 CFR 351.214(b), for a new shipper review of the AD order on certain welded carbon steel pipe and tube from Turkey, which has a May anniversary month.¹

¹ See Antidumping Duty Order; Welded Carbon Steel Standard Pipe and Tube Products from Turkey, 51 FR 17784 (May 15, 1986).

As required by 19 CFR 351.214(b)(2)(i) and (iii)(A), Tosçelik certified that it did not export subject merchandise to the United States during the period of investigation (“POI”), and that it has never been affiliated with any exporter or producer which exported subject merchandise during the POI.² Pursuant to 19 CFR 351.214(b)(2)(iv), the company submitted documentation establishing the date on which it first shipped the subject merchandise to the United States, the date of entry of that first shipment, the volume of that and subsequent shipments, and the date of the first sale to an unaffiliated customer in the United States.³

² See submission from the Law Offices of David L. Simon on behalf of Tosçelik Profil ve Sac Endustrisi A.S. to the Department regarding Request for New Shipper Review, Case A-489-501, dated May 31, 2005.

³ Id.

Initiation of Review

In accordance with section 751(a)(2)(B) of the Act and 19 CFR 351.214, and based on information on the record, we are initiating an AD new shipper review for Tosçelik. We intend to issue the preliminary results of this new shipper review not later than 180 days after initiation of this review. We intend to issue final results of this review no later than 90 days after the date on which the preliminary results are issued. See 19 CFR 351.214(i).

New Shipper Review Proceeding | Period to be Reviewed
Tosçelik | 05/01/2004 - 04/30/2005

In accordance with section 751(a)(2)(B)(iii) of the Act and 19 CFR 351.214(e), we will instruct CBP to allow, at the option of the importer, the posting, until the completion of the review, of a single entry bond or security in lieu of a cash deposit for certain entries of the merchandise exported by Tosyali. We will apply the bonding option under 19 CFR 351.107(b)(1)(I) only to entries from Tosyali for which the respective producer under review is Tosçelik. Interested parties that need access to proprietary information in these new shipper reviews should submit applications for disclosure under administrative protective orders in accordance with 19 CFR 351.305 and 351.306. This initiation and notice are in accordance with section 751(a) of the Act (19 U.S.C. 1675(a)) and 19 CFR 351.214(d).

Interested parties that need access to proprietary information in this new shipper review should submit applications for disclosure under administrative protective orders in accordance with 19 CFR 351.305 and 351.306.

This initiation and notice are in accordance with section 751(a) of the Act and 19 CFR 351.214(d).

Dated: June 30, 2005.
Joseph A. Spetrini,
Acting Assistant Secretary for Import Administration.

[FR Doc. E5-3589 Filed 7-7-05; 8:45 am]

BILLING CODE 3510-DS-S